DEPARTMENT OF HEALTH AND HUMAN SERVICES

Centers for Disease Control and Prevention

Antimalarial Drug Resistance and Prevention of Malaria During Pregnancy; Notice of Intent To Fund Single Eligibility Award

A. Purpose

The Centers for Disease Control and Prevention (CDC) announces the intent to fund fiscal year (FY) 2005 funds for a cooperative agreement program to increase the epidemiological and operational data generated in the West African sub-region upon which policy makers can base their decisions and bring cutting edge malaria control tools from the bench to the field. The Catalog of Federal Domestic Assistance number for this program is 93.283.

B. Eligible Applicant

Assistance will be provided only to the Malarial Research and Training Center (MRTC), Department of Epidemiology and Parasitic Diseases, Faculty of Medicine and Dentistry, University of Bamako, Mali.

The Malaria Research and Training Center (MRTC) is the only institution in West Africa that has the experience and infrastructure required. The MRTC designed and developed the Genotype Resistance Index (GRI), a crucial component of the proposed work. MRTC has also conducted the only full scale randomized controlled trial comparing chemoprophylaxis and intermittent preventive treatment for the prevention of malaria during pregnancy. They have demonstrated through this and other field-based and laboratory-based research projects that they are capable of executing complex scientific malaria research. MRTC is housed under the Department of Epidemiology and Parasitic Diseases, Faculty of Medicine, Pharmacy, and Dentistry, University of Bamako, Mali. The MRTC was founded in 1992 to conduct laboratory and field research related to malaria. Units within MRTC include Entomology and Molecular Biology, Vector Ecology, Malaria during Pregnancy, Transmission Blocking Vaccine Unit, GIS Unit, Parasite Epidemiology, Malaria Vaccine Development Unit, Biostatistics and Data Management, Drug Resistance/Molecular Biology, Parasite Immunology and Immunogenetics, Parasite Molecular Biology, and Informatics. Because of its institutional linkages with the Ministry of Health, including the National Malaria Control Program, MRTC is able to share its research findings and work with the Ministry of Health to adapt them into policy and programs. For more than a decade, MRTC has been working with all levels of the Ministry of Health to conduct health research. MRTC conducts its own data entry and has developed and built data management and analytic capacity within the Center. The team at MRTC has extensive experience in the conduct of in vivo antimalarial drug efficacy studies, supporting laboratory investigations (molecular marker identification, measurement of antimalarial drug levels, identification of P. falciparum phenotype, and in vitro efficacy studies), and the conduct of malaria during pregnancy research. MRTC scientists and collaborators have numerous published scientific papers indicating the scientific soundness of research conducted by the Center.

The combination of access and an institutional linkage to the Ministry of Health, experience conducting antimalarial drug resistance work in Mali, equipment for the conduct of polymerase chain reaction (PCR), laboratory expertise in P. falciparum antimalarial drug resistance marker identification, international stature in research on malaria during pregnancy, experience in conducting trials regarding malaria during pregnancy in Mali, the expertise to read placental malaria blood slides, an infrastructure capable of data management and analysis, and a reputation for conducting sound scientific work makes MRTC the only organization with these attributes and the only vendor who can perform the necessary work.

C. Funding

Approximately $100,000 is available in FY 2005 to fund this award. It is expected that the award will begin on or before June 1, 2005 and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For technical questions about this program, contact: Dr. Trudy Messmer, Scientific Review Administer, 1600 Clifton Road, MS C-19, Atlanta, GA 30333, Telephone: (404) 639-3770, E-mail: TMessmer@cdc.gov.

Dated: March 25, 2005.
William P. Nichols,
Director, Procurement and Grants Office, Centers for Disease Control and Prevention.

[FR Doc. 05-6344 Filed 3-30-05; 8:45 am]

BILLING CODE 4163-18-P